NUCLEAR REGULATORY COMMISSION

10 CFR Part 72

[NRC-2022-0049]

3150-AK76

List of Approved Spent Fuel Storage Casks: NAC International NAC-UMS Universal Storage System, Certificate of Compliance No. 1015, Amendment No. 9

AGENCY: Nuclear Regulatory Commission.

ACTION: Direct final rule; confirmation of effective date.

SUMMARY: The U.S. Nuclear Regulatory Commission (NRC) is confirming the effective date of August 29, 2022, for the direct final rule that was published in the Federal Register on June 14, 2022. This direct final rule amends the NAC International NAC-UMS Universal Storage System listing in the “List of approved spent fuel storage casks” to include Amendment No. 9 of Certificate of Compliance No. 1015. In addition, this rulemaking makes editorial corrections to Amendment No. 8.

DATES: The effective date of August 29, 2022, for the direct final rule published June 14, 2022 (87 FR 35858), is confirmed.

ADDRESSES: Please refer to Docket ID NRC-2022-0049 when contacting the NRC about the availability of information for this action. You may obtain publicly available information related to this action by any of the following methods:

• Federal Rulemaking website: Go to https://www.regulations.gov and search for Docket ID NRC-2022-0049. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The amendment to the certificate of compliance, changes to the technical specifications, and safety evaluation report can be viewed in ADAMS under Accession No. ML22202A020.

• NRC's PDR: You may examine and purchase copies of public documents by appointment at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Vanessa Cox, Office of Nuclear Material Safety and Safeguards, U.S. Nuclear Regulatory Commission, Washington DC 20555-0001; telephone: 301-415-8342, email: Vanessa.Cox@nrc.gov.

SUPPLEMENTARY INFORMATION: On June 14, 2022 (87 FR 35858), the NRC published a direct final rule amending its regulations in part 72 of title 10 of the Code of Federal Regulations to revise the NAC International NAC-UMS Universal Storage System listing in the “List of approved spent fuel storage casks” to include Amendment No. 9 of Certificate of Compliance No. 1015. Amendment No. 9 revises the technical specifications to correct the effective thermal properties for pressurized-water reactor fuel assemblies used in the certification basis ANSYS thermal models and update some modeling assumptions. In addition, this rulemaking makes editorial corrections to Amendment No. 8. In the direct final rule, the NRC stated that if no significant adverse comments were received, the direct final rule would become effective on August 29, 2022. The NRC did not receive any comments on the direct final rule. Therefore, this direct final rule will become effective as scheduled.

Dated: July 25, 2022.
For the Nuclear Regulatory Commission.
Cindy K. Bladey,
Chief, Regulatory Analysis and Rulemaking Support Branch, Division of Rulemaking, Environmental, and Financial Support Office of Nuclear Material Safety and Safeguards.

[FR Doc. 2022-16216 Filed 7-27-22; 8:45 am]

BILLING CODE 7590-01-P